ENVIRONMENTAL PROTECTION AGENCY

[ER-FRL-6649-5]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 04, 2003 (68 FR 16511).

Draft EISs

ERP No. D-BLM-A65174-00 Rating EC2, Programmatic EIS—Proposed Revision to Grazing Regulations for the Public Lands, 42 CFR Part 4100, In the Western Portion of the United States.

Summary: EPA expressed environmental concerns with potential adverse impacts to water quality and quantity, riparian habitat and related wildlife and vegetation.

EPA requested that the final EISs provide data to support predicted impacts to these resources. The final EIS should also include specific implementation information on how BLM will conduct the proposed new monitoring, assessments, and documentation.

ERP No. D-BLM-L65432-OR Rating EC2, Upper Siuslaw Late-Successional Reserve Restoration Plan, To Protect and Enhance Late-Successional and Old-Growth Forest Ecosystems, Eugene District Resource Management Plan, Northwest Forest Plan, Coast Range Mountains, Lane and Douglas Counties, OR.

Summary: EPA expressed environmental concerns and recommends that the FEIS include a full comparison and analyses of all the alternative, including adequate baseline data and disclosure of potential adverse impacts on surface water quality and late successional forests.

ERP No. D-BLM-L65438-OR Rating EC2, Andrews Management Unit/Steens Mountain Cooperative, Cooperative Management and Protection Area, Resource Management Plan, Implementation, Harney and Malheur Counties, OR.

Summary: EPA expressed concerns with adverse impacts to water quality from grazing and mining. The FEIS should fully discuss cumulative impacts from mining and grazing and compare the environmental impacts of alternatives. The FEIS should also include detailed mitigation measures to protect aquatic resources.

ERP No. D-COE-E09810-MS Rating LO, Enhanced Evaluation of Cumulative Effects Associated with U.S. Army Corps of Engineers Permitting Activity for Large-Scale Development in Coastal Mississippi, Mississippi, Hancock, Harrison and Jackson Counties, MS.

Summary: While EPA has no objections to the proposed project, EPA did request clarification on the recreation and parking improvements proposed as part of the project.

ERP No. D-COE-L01009-ID Rating EC2, Emerald Creek Garnet Project, Proposal to Mine Garnet Reserves within the St. Maries River Floodplain near Fernwood, Walla Walla District, Issuance of Several Permits, Benewah and Shoshone Counties, ID.

Summary: EPA expressed concerns over the potential impacts of mining proposals on water quality. EPA recommends that adequate mitigation and reclamation be implemented to move the St. Maries River towards its designated beneficial uses. EPA also expressed concern over alternatives that do not avoid ecologically valuable oxbow complexes and recommended that if an alternative is selected that does not avoid oxbows, additional mitigation measures be implemented to ensure the long-term protection and restoration of wetland functions.

ERP No. D-USA-K11111-HI Rating EC2, Transformation of the 2nd Brigade, 25th Infantry Division (Light) to a Stryker Brigade Combat Team in Hawaii, Implementation, Honolulu and Hawaii Counties, HI.

Summary: EPA raised concerns that the project exceeds the Federal Air Quality Standard for particulate matter less than 10 microns in diameter (fugitive dust) from training operations. Although the DEIS offers mitigation for fugitive dust emissions, it does not quantify reductions expected from controls nor a commitment to implement such mitigation. The Final EIS should evaluate the feasibility of monitoring at sites where the Federal standard is exceeded, and adopting additional mitigation if needed. EPA raised concerns that increased fugitive dust levels may have a disproportionately high adverse effect on low-income or minority populations when transported offsite.

ERP No. DS-COE-C39016-PR Rating EO2, Port of the Americas Project, Additional Information on the Development of a Deep-Draft Terminal at the Port of Ponce to Receive Post-Panamax Ships, COE Section 10 and 404 Permits, Municipalities of Guyanilla-Penuelas and Ponce, Puerto Rico.

Summary: EPA believes that the permit applicant failed to adequately document compliance with the Clean Water Act Section 404(b)(1) Guidelines, and until further information is received, that the proposed discharges of fill material would have a substantial and unacceptable impact on aquatic resources of national importance. EPA recommended denial of the permit application for the project as currently proposed.

Final EISs

ERP No. F-FHW-J40158-MT I-15 Corridor Project, Transportation Improvements from Montana City to the Lincoln Road Interchange, Funding and U.S. Army COE Section 404 Permit Issuance, Jefferson and Lewis & Clark Counties, MT.

Summary: EPA has no objections to the preferred alternative.

ERP No. F-NOA-K91010-00 US West Coast Fisheries for Highly Migratory Species Fishery Management Plan (FMP), Approval and Implementation, Ocean Waters off the States of Washington, Oregon and California a portion of the Exclusive Economic Zone (EEZ), WA, OR and CA.

Summary: EPA continues to express concerns regarding bycatch and research actions needed to address information gaps.

Dated: March 15, 2004.
Ken Mittelholtz,
Environmental Protection Specialist, Office of Federal Activities.

[FR Doc. 04-6219 Filed 3-18-04; 8:45 am]

BILLING CODE 6560-50-P